NATIONAL FOUNDATION ON THE ARTS AND THE HUMANITIES

National Endowment for the Humanities

Meeting of Humanities Panel

AGENCY: National Endowment for the Humanities; National Foundation on the Arts and the Humanities.

ACTION: Notice of Meeting.

SUMMARY: The National Endowment for the Humanities (NEH) will hold twenty meetings, by videoconference, of the Humanities Panel, a federal advisory committee, during March 2021. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. DATE: March 2, 2021

This video meeting will discuss applications on the topic of U.S. History, for the Public Scholars grant program, submitted to the Division of Research Programs.

2. DATE: March 3, 2021

This video meeting will discuss applications on the topics of Philosophy, Politics, and Law, for the Public Scholars grant program, submitted to the Division of Research Programs.

3. DATE: March 4, 2021

This video meeting will discuss applications on the topics of Science, Technology, and Medicine, for the Public Scholars grant program, submitted to the Division of Research Programs.

4. DATE: March 4, 2021

This video meeting will discuss applications on the topic of History, for the Public Scholars grant program, submitted to the Division of Research Programs.

5. DATE: March 5, 2021

This video meeting will discuss applications on the topics of Film, Media, and Communications, for the Public Scholars grant program, submitted to the Division of Research Programs.

6. DATE: March 5, 2021

This video meeting will discuss applications on the topic of Arts, for the Public Scholars grant program, submitted to the Division of Research Programs.

7. DATE: March 8, 2021

This video meeting will discuss applications on the topic of American Studies, for the Public Scholars grant program, submitted to the Division of Research Programs.

8. DATE: March 9, 2021

This video meeting will discuss applications on the topic of Biography, for the Public Scholars grant program, submitted to the Division of Research Programs.

9. DATE: March 15, 2021

This video meeting will discuss applications on the topic of Biography, for the Public Scholars grant program, submitted to the Division of Research Programs.

10. DATE: March 15, 2021

This video meeting will discuss applications on the topic of Social Sciences, for the Public Scholars grant program, submitted to the Division of Research Programs.

11. DATE: March 16, 2021

This video meeting will discuss applications on the topic of U.S. History, for the Public Scholars grant program, submitted to the Division of Research Programs.

12. DATE: March 17, 2021

This video meeting will discuss applications on the topic of Religion, for the Public Scholars grant program, submitted to the Division of Research Programs.

13. DATE: March 19, 2021

This video meeting will discuss applications on the topics of Literature and Language, for the Public Scholars grant program, submitted to the Division of Research Programs.

14. DATE: March 23, 2021

This video meeting will discuss applications on the topics of American History and Literature, for the Scholarly Editions and Translations grant program, submitted to the Division of Research Programs.

15. DATE: March 24, 2021

This video meeting will discuss applications on the topics of the Arts and Architecture, for the Collaborative Research grant program, submitted to the Division of Research Programs.

16. DATE: March 24, 2021

This video meeting will discuss applications on the topics of American and Latin American Studies, for the Public Scholars grant program, submitted to the Division of Research Programs.

17. DATE: March 25, 2021

This video meeting will discuss applications on the topics of History and Studies of the Americas, for the Collaborative Research grant program, submitted to the Division of Research Programs.

18. DATE: March 26, 2021

This video meeting will discuss applications on the topics of Literature, Communication, and Media Studies, for the Collaborative Research grant program, submitted to the Division of Research Programs.

19. DATE: March 29, 2021

This video meeting will discuss applications on the topics of Literature and the Arts, for the Scholarly Editions and Translations grant program, submitted to the Division of Research Programs.

20. DATE: March 31, 2021

This video meeting will discuss applications on the topics of History and Studies of Africa, Asia, and Europe, for the Collaborative Research grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: February 19, 2021.
Elizabeth Voyatzis,
Committee Management Officer.

[FR Doc. 2021-03831 Filed 2-23-21; 8:45 am]

BILLING CODE 7536-01-P